DEPARTMENT OF JUSTICE

Notice of Lodging of Consent Decree Under the Clean Water Act

Notice is hereby given that on October 4, 2006, a proposed consent decree in United States and State of Indiana v. City of Indianapolis, Civ. No. 1:06-cv-1456, was lodged with the United States District Court for the Southern District of Indiana.

In this action the United States sought civil penalties and injunctive relief for alleged violations of Sections 301 and 402 of the Clean Water Act, 33 U.S.C. 1319 and 1342, in connection with the City's operation of its municipal wastewater and sewer system. The City currently discharges approximately eight billion gallons of untreated sewage per year from approximately 133 Combined Sewer Overflows, Sanitary Sewer Overflows, and bypass locations into the White River and its tributaries. The Complaint alleges that the City's discharges, which occur approximately 60 times per year, violate the Clean Water Act either because the discharges violate limitations and conditions in the City's National Pollutant Discharge Elimination System (NPDES) permits, or because the discharges are from point sources not authorized by the City's NPDES permits. The Complaint also asserts claims for violations of comparable State law on behalf of the State of Indiana.

Under the proposed Consent Decree, the City would be required to: (1) Implement a Long Term Control Plan which would greatly reduce Combined Sewer Overflows; (2) implement a plan designed to eliminate Sanitary Sewer Discharges; (3) perform a Supplemental Environmental Project which must cost a minimum of $2 million; (4) pay to the United States a civil penalty of $588,900; (5) either pay the State a civil penalty of $588,900, or pay the State a civil penalty of $58,890 and undertake a State Supplemental Environmental Project which must cost a minimum of $1,060,020; and (6) perform various other remedial measures. The injunctive relief that would be secured by the proposed Consent Decree is expected to cost approximately $1.868 billion in 2005 dollars. The Long Term Control Plan includes a construction schedule of twenty years (from the anticipated date of approval of the Long Term Control Plan).

The Department of Justice will receive for a period of thirty (30) days from the date of this publication comments relating to the proposed Consent Decree. Comments should be addressed to the Assistant Attorney General, Environment and Natural Resources Division, P.O. Box 7611, U.S. Department of Justice, Washington, DC 20044-7611, and should refer to United States and State of Indiana v. City of Indianapolis, D.J. Ref. 90-5-1-1-07292.

The proposed Consent Decree may be examined at the Office of the United States Attorney for the Southern District of Indiana, U.S. Courthouse—5th Floor, 46 East Ohio Street, Indianapolis, IN 46204 (contact Asst. U.S. Attorney Thomas Kieper (317-226-6333)), and at U.S. EPA Region 5, 7th Floor Records Center, 77 West Jackson Blvd., Chicago, Illinois 60604 (contact Assoc. Regional Counsel Gary Prichard (312-886-0570)). During the public comment period, the proposed consent decree, including the Long Term Control Plan, may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $21.50 (25 cents per page reproduction cost) for the Consent Decree without appendices, or for $467.75 for the Consent Decree and all appendices, payable to the U.S. Treasury or, if by e-mail or fax, forward a check in that amount to the Consent Decree Library at the stated address.

William Brighton,
Assistant Chief, Environmental Enforcement Section, Environment and Natural Resources Division.

[FR Doc. 06-8745 Filed 10-17-06; 8:45 am]

BILLING CODE 4410-15-M